DEPARTMENT OF STATE

[Public Notice 4510]

Bureau of Educational and Cultural Affairs Request for Grant Proposals: Pre-Academic English Language Training and Academic Readiness Phase of the Partnership for Learning Undergraduate Studies PLUS Program

ACTION: Notice.

SUMMARY: The Office of English Language Programs of the Bureau of Educational and Cultural Affairs announces an open competition for the Pre-Academic English Language Training and Academic Readiness phase of the ECA Partnership for Learning Undergraduate Studies (PLUS) Program. Public and private non-profit organizations meeting the provisions described in Internal Revenue Code section 26 U.S.C. 501(c)(3) may submit proposals to provide administrative and program support services for placing between 75 and 100 undergraduate students from the Middle East and North Africa in groups of no more than 14 students in appropriate United States Intensive English Programs (IEPs). These IEPs should be associated with U.S. colleges and universities offering a pre-academic program of intensive English language instruction, academic readiness, and acculturation to life and study in the United States. It is anticipated that most of the students will begin their pre-academic programs in January 2004 or the spring semester of the institution's academic calendar.

Program Information

Overview: The Partnership for Learning Undergraduate Studies (PLUS) Program of the ECA Partnership for Learning Initiative seeks to reach a broad sector of college-age youth (17-22) from diverse backgrounds, provide them with a greater understanding of U.S. institutions, society and culture, and build leadership for the region through education.

The goal of the PLUS scholarship program is to identify and support undergraduate level study at accredited higher education institutions in the United States for a select cadre of academically talented undergraduate students from the Middle East and North Africa who exhibit leadership potential in contributing to the economic, political, and social development of the region.

PLUS scholarships are offered for the final two years of undergraduate level study leading to a bachelor's degree in the social sciences and humanities. When necessary, the program will also provide up to eight months of pre-academic training to develop English language proficiency and participant academic readiness. The two-year Partnership for Learning Undergraduate Studies (PLUS) Program has been announced under a separate Request for Grant Proposals.

Program participants will be recruited, screened and nominated by America-Mideast Educational and Training Services (AMIDEAST) in conjunction with Public Affairs Sections of the U.S. Embassies and/or Fulbright Commissions in the region. An independent review panel in Washington, DC, will determine final selection of scholarship grantees. Participants will be placed in pre-academic programs as determined necessary in the selection process.

The Bureau's Office of English Language Programs administers this first phase of the PLUS Scholarship Program, and is responsible for allocation of funding, policy guidance and administrative oversight.

The cooperating agency will have responsibility for program administration, which involves performance of services in the following broad categories: Program Planning and Management; Placement; Supervision and Support Services; Fiscal Management; and Reporting and Evaluation Services.

Guidelines: It is anticipated that program administration activities will cover the time period December 15, 2003, through August 30, 2004. The expected cooperating agency caseload is projected to be between 75 and 100 candidates for spring 2004 and summer 2004 pre-academic programs. The cooperating agency will be responsible for the following:

(1) Identify up to 10 U.S. institutions of higher education which have Intensive English Programs that also provide activities for acculturation to life and study in the U.S. These institutions should be geographically widespread and represent the diversity of higher education in the U.S. The cooperating agency should work with the Bureau in the final selection process of these institutions.

(2) Negotiate placement into the program for the candidates and arrange scholarships or reductions of tuition or other fees when possible to leverage U.S. government funds and increase the number of participants. Negotiate on-campus housing to include, whenever possible, English-speaking roommate(s), meal plans, types and costs. Assess the availability and nature of acculturation programs including possible home hospitality or weekend and holiday visits with American families.

(3) In conjunction with the U.S. Embassy, arrange travel for the candidates from their home countries to the location of the U.S. institution in accordance with the “Fly-America Act.” ECA intends to issue the necessary DS-2019 forms and work with the U.S. embassies to secure visas for the candidates.

(4) Transfer grant funds to the respective host institutions for the students' tuition, accommodations, food, and incidentals.

(5) Enroll candidates in the Bureau's Health and Accident Insurance Program (ASPE).

(6) Monitor program and participants.

(7) Track, audit, and disburse PLUS Scholarship Program Funds.

Budget Guidelines

The Bureau anticipates awarding one grant, in an amount up to $1,150,000 to support program and administrative costs required to implement phase one of the PLUS Program. Bureau grant guidelines require that organizations with fewer than four years experience in conducting international exchanges be limited to $60,000 in Bureau funding. As it is expected that the budget for this program will exceed $60,000, organizations that cannot demonstrate at least four years experience will not be eligible to apply under this competition. The Bureau encourages applicants to provide maximum levels of cost-sharing and funding in management of programs.

Applicants must submit a comprehensive budget for the entire program. There must be a summary budget as well as breakdowns reflecting both administrative and program budgets. Applicants may provide separate sub-budgets for each program component, phase, location, or activity to provide clarification.

Allowable costs for the program include the following:

(1) Per participant: Expenses for a spring semester and full summer sessions as deemed necessary by the selection process including:

i. tuition and fees,

ii. books and educational materials,

iii. on-campus housing with English-speaking roommate(s),

iv. access to a comprehensive meal plan,

v. maintenance allowance,

vi. extra curricular acculturation programs. It is anticipated that total expenses will range from $12,500 to $16,000 per participant, depending on the institution and the amount of cost sharing negotiated.

(2) Round Trip Air Travel from home country to site of U.S. institution.

Please refer to the Solicitation Package for complete budget guidelines and formatting instructions.

Announcement Title and Number: All correspondence with the Bureau concerning this RFGP should reference the above title and number ECA/A/L-04-02.

FOR FURTHER INFORMATION CONTACT: The Office of English Language Programs, ECA/A/L, Room 304, U.S. Department of State, SA-44, 301 4th Street, SW, Washington, DC 20547; Phone: (202) 619-5886; Fax: (202) 401-1250; E-mail: kmjenson@pd.state.gov; or Internet address: http://exchanges.state.gov/education/RFGPs to request a Solicitation Package. The Solicitation Package contains detailed award criteria, required application forms, specific budget instructions, and standard guidelines for proposal preparation. Please specify Bureau Program Officer Kenneth M. Jenson for all other inquiries and correspondence.

Please read the complete Federal Register announcement before sending inquiries or submitting proposals. Once the RFGP deadline has passed, Bureau staff may not discuss this competition with applicants until the proposal review process has been completed.

To Download a Solicitation Package Via Internet

The entire Solicitation Package may be downloaded from the Bureau's Web site at http://exchanges.state.gov/education/RFGPs. Please read all information before downloading.

New OMB Requirement

An OMB policy directive published in the Federal Register on Friday, June 27, 2003, requires that all organizations applying for Federal grants or cooperating agreements must provide a Dun and Bradstreet (D&B) Data Universal Numbering System (DUNS) number when applying for all Federal grants or cooperating agreements on or after October 1, 2003. The complete OMB policy directive can be referenced at http://www.whitehouse.gov/omb/fedreg/062703_grant_identifier.pdf.

Please also visit the ECA Web site at http://exchanges.state.gov/education/rfgps/menu.htm for additional information on how to comply with this new directive.

Deadline for Proposals

All proposal copies must be received at the Bureau of Educational and Cultural Affairs by 5 p.m. Washington, DC time on Monday, November 10, 2003. Faxed documents will not be accepted at any time. Documents postmarked the due date but received on a later date will not be accepted. Each applicant must ensure that the proposals are received by the above deadline.

Applicants must follow all instructions in the Solicitation Package. The original and seven copies of the application should be sent to: U.S. Department of State, SA-44, Bureau of Educational and Cultural Affairs, Ref.: ECA/A/L-04-02, Program Management, ECA/EX/PM, Room 534, 301 4th Street, SW, Washington, DC 20547.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Adherence to All Regulations Governing the J Visa

Programs must comply with J-1 visa regulations. Please refer to Solicitation Package for further information. The Bureau of Educational and Cultural Affairs is placing renewed emphasis on the secure and proper administration of Exchange Visitor (J visa) Programs and adherence by grantees and sponsors to all regulations governing the J visa. Therefore, proposals should demonstrate the applicant's capacity to meet all requirements governing the administration of Exchange Visitor Programs as set forth in 22 CFR part 62, including the oversight of Responsible Officers and Alternate Responsible Officers, screening and selection of program participants, provision of pre-arrival information and orientation to participants, monitoring of participants, proper maintenance and security of forms, record-keeping, reporting and other requirements. ECA will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 401-9810, FAX: (202) 401-9809.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for cooperating agreements resides with the Bureau's Grants Officer.

Review Criteria

Technically eligible applications will be competitively reviewed according to the criteria stated below. These criteria are not rank ordered and all carry equal weight in the proposal evaluation:

1. Program Development and Management: Proposals should exhibit precision and relevance to the Bureau's mission.

2. Program planning: Detailed agenda and relevant work plan should demonstrate the cooperating agency's logistical capacity. Agenda and plan should adhere to the program overview and guidelines described above.

3. Ability to achieve program objectives: Objectives should be reasonable, feasible, and flexible. Proposals should clearly demonstrate how the institution will meet the program's objectives and plan.

4. Support of Diversity: Proposals should demonstrate substantive support of the Bureau's policy on diversity. Achievable and relevant features should be cited in both program administration (selection of participants, program venue and program evaluation) and program content (orientation and wrap-up sessions, program meetings, resource materials and follow-up activities).

5. Institutional Capacity: Proposed personnel and institutional resources should be adequate and appropriate to achieve the program or project's goals.

6. Institution's Record/Ability: Proposals should demonstrate an institutional record of successful exchange programs, including responsible fiscal management and full compliance with all reporting requirements for past Bureau grants as determined by Bureau Grant Staff. The Bureau will consider the past performance of prior recipients and the demonstrated potential of new applicants.

7. Project Evaluation: Proposals should include a plan to evaluate the activity's success, both as the activities unfold and at the end of the program. A draft survey questionnaire or other technique plus description of a methodology to use to link outcomes to original project objectives is recommended. Successful applicants will be expected to submit intermediate reports after each project component is concluded or quarterly, whichever is less frequent.

8. Cost-effectiveness: The overhead and administrative components of the proposal, including salaries and honoraria, should be kept as low as possible. All other items should be necessary and appropriate.

9. Cost-sharing: Proposals should maximize cost-sharing through other private sector support as well as institutional direct funding contributions.

Authority

Overall grant making authority for this program is contained in the Mutual Educational and Cultural Exchange Act of 1961, Pub. L. 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through ECA's Exchanges Appropriation.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: October 6, 2003.
C. Miller Crouch,
Principal Deputy Assistant Secretary, Bureau of Educational and Cultural Affairs, Department of State.

[FR Doc. 03-25784 Filed 10-9-03; 8:45 am]

BILLING CODE 4710-05-P